NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of a teleconference meeting of the Executive Committee National Science Board.

DATE AND TIME: Thursday, September 12, 2013 from 10:00-11:00 a.m.

SUBJECT MATTER: Discussion of legislative matters.

STATUS: Closed.

This meeting will be held by teleconference originating at the National Science Board Office, National Science Foundation, 4201Wilson Blvd., Arlington, VA 22230.

Please refer to the National Science Board Web site www.nsf.gov/nsb for additional information, or contact Peter Arzberger, (703) 292-8000 or parzberg@nsf.gov. Meeting information and schedule updates (time, place, subject matter or status of meeting) may be found at http://www.nsf.gov/nsb/notices/.

Ann Bushmiller,
NSB Senior Legal Counsel.

[FR Doc. 2013-22444 Filed 9-11-13; 4:15 pm]

BILLING CODE 7555-01-P